ENVIRONMENTAL PROTECTION AGENCY

[FRL-7203-4]

Clean Water Act Section 303(d): Final Agency Action on 45 Total Maximum Daily Loads (TMDLs)

AGENCY: Environmental Protection Agency (EPA).

ACTION: Notice of availability.

SUMMARY: This notice announces final agency action on 45 TMDLs prepared by EPA Region 6 for waters listed in Louisiana's Mermentau and Vermilion/Teche river basins, under section 303(d) of the Clean Water Act (CWA). EPA evaluated these waters and prepared the 45 TMDLs in response to the lawsuit styled Sierra Club, et al. v. Clifford et al., No. 96-0527, (E.D. La.). Documents from the administrative record files for the final 45 TMDLs, including TMDL calculations and responses to comments, may be viewed at www.epa.gov/region6/water/tmdl.htm. The administrative record files may be obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner.

EPA Takes Final Agency Action on 45 TMDLs

By this notice EPA is taking a final agency action on the following 45 TMDLs for waters located within the Mermentau and Vermilion/Teche basins:

Subsegment | Waterbody Name | Pollutant
050103 | Bayou Mallet | Ammonia.
050402 | Lake Arthur and Lower Mermentau River to Grand Lake | Ammonia.
050103 | Bayou Mallet | Nutrients.
050402 | Lake Arthur and Lower Mermentau River to Grand Lake | Nutrients.
050701 | Grand Lake | Nutrients.
050702 | Intracoastal Waterway | Nutrients.
050901 | Mermentau River Basin Coastal Bays and Gulf Waters to State 3-mile limit | Nutrients.
050103 | Bayou Mallet | Organic enrichment/low DO.
050402 | Lake Arthur and Lower Mermentau | Organic enrichment/low DO.
050602 | Intracoastal Waterway | Organic enrichment/low DO.
050603 | Bayou Chene—includes Bayou Grand Marais | Organic enrichment/low DO.
050701 | Grand Lake | Organic enrichment/low DO.
050702 | Intracoastal Waterway | Organic enrichment/low DO.
050802 | Big Constance Lake and Associated Waterbodies (Estuarine) | Organic enrichment/low DO.
050901 | Mermentau River Basin Coastal Bays and Gulf Waters to State 3-mile limit | Organic enrichment/low DO.
060207 | Bayou des Glaises Diversion Channel | Nutrients.
060210 | Bayou Carron | Nutrients.
060601 | Charenton Canal | Nutrients.
060701 | Tete Bayou | Nutrients.
060803 | Vermilion River | Nutrients.
060901 | Bayou Petite Anse | Nutrients.
060903 | Bayou Tigre | Nutrients.
060904 | Vermilion B890 Basin New Iberia Southern Drainage Canal | Nutrients.
060907 | Franklin Canal | Nutrients.
060909 | Lake Peigneur | Nutrients.
060911 | Vermilion-Teche River Basin—(Dugas Canal) | Nutrients.
061103 | Freshwater Bayou Canal | Nutrients.
060207 | Bayou des Glaises Diversion Channel | Organic enrichment/low DO.
060209 | Irish Ditch/Big Bayou—unnamed Ditch to Irish Ditch | Organic enrichment/low DO.
060210 | Bayou Carron | Organic enrichment/low DO.
060211 | West Atchafalaya Borrow Pit Canal | Organic enrichment/low DO.
060212 | Chatlin Lake Canal | Organic enrichment/low DO.
060601 | Charenton Canal | Organic enrichment/low DO.
060701 | Tete Bayou | Organic enrichment/low DO.
060703 | Bayou du Portage | Organic enrichment/low DO.
060803 | Vermilion River Cutoff | Organic enrichment/low DO.
060901 | Bayou Petite Anse | Organic enrichment/low DO.
060903 | Bayou Tigre | Organic enrichment/low DO.
060904 | Vermilion River B890 Basin New Iberia Southern Drainage Canal | Organic enrichment/low DO.
060907 | Franklin Canal | Organic enrichment/low DO.
060908 | Spanish Lake | Organic enrichment/low DO.
060909 | Lake Peigneur | Organic enrichment/low DO.
060911 | Vermilion-Teche River Basin—(Dugas Canal) | Organic enrichment/low DO.
061001 | West Cote Blanche Bay | Organic enrichment/low DO.
061103 | Freshwater Bayou Canal | Organic enrichment/low DO.

EPA requested the public to provide EPA with any significant data or information that may impact the 45 TMDLs at Federal Register Notice: Volume 66, Number 199, pages 52403-52404 (October 15, 2001). The comments received and EPA's response to comments may be found at www.epa.gov/region6/water/tmdl.htm.

Dated: April 22, 2002.
Sam Becker,
Acting Director, Water Quality Protection Division, Region 6.

[FR Doc. 02-10631 Filed 4-30-02; 8:45 am]

BILLING CODE 6560-50-P